OFFICE OF MANAGEMENT AND BUDGET

Public Availability of Year 2001 Agency Inventories Under the Federal Activities Inventory Reform Act of 1998 (Public Law 105-270) (“FAIR Act”)

AGENCY: Office of Management and Budget Executive Office of the President.

ACTION: Notice of public availability of Agency Inventories of Activities that are not Inherently Governmental.

SUMMARY: Agency Inventories of Activities that are not Inherently Governmental are now available to the public from the agencies listed below, in accordance with the “Federal Activities Inventory Reform Act of 1998” (Public Law 105-270) (“FAIR Act”). This is the first release of the 2001 FAIR Act inventories. In addition, the Office of Federal Procurement Policy has prepared and has made available a summary FAIR Act User's Guide through its Internet site: http://www.whitehouse.gov/OMB/procurement/index.html. This User's Guide will help interested parties review 2001 FAIR Act inventories, and will also include the web-site addresses to access agency inventories.

The FAIR Act requires that OMB publish an announcement of public availability of agency Inventories of Activities that are not Inherently Governmental upon completion of OMB's review and consultation process concerning the content of the agencies' inventory submissions. OMB has now completed this process for the year 2001.

The attached Inventories of Activities that are not Inherently Governmental are now available.

Mitchell E. Daniels, Jr.,
Director.

Attachment

Attachment
Agency | Contact
Advisory Council on Historic Preservation | Carol McLain, 202-606-8511 Website: www.achp.gov/fairact.html
African Development Foundation | Tom Coogan, 202-673-3916 Website: www.adf.gov
American Battle Monuments Commission | Anthony Corea, 703-696-6898 Website: www.usabmc.com
Appalachian Regional Commission | Richard Kodl, 202-884-7666 Website: www.arc.gov/infopubs/infomain.html
Architectural and Transportation Barriers Compliance Board | Lawrence W. Roffee, 202-272-5434, ext. 113, Website: www.access-board.gov
Arlington National Cemetery | Rory Smith, 703-614-5060 Website: www.arlingtoncemetery.org/
Broadcasting Board of Governors | Dennis Sokol, 202-619-3988 Website: www.ibb.gov/fairact
Commission on Fine Arts | Jeff Carson, 202-504-2200 Website: www.whitehouse.gov/OMB/procurement
Defense Nuclear Facilities Safety Board | Andrew Thibadeau, 202-694-7000 Website: www.dnfsb.gov
Defense (Office of Inspector General) | Wayne Berry, 703-604-8789 Website: www.dodig.osd.mil
Energy | Mark R. Hively, 202-586-5655 Website: www.pr.doe.gov/a76.html
Federal Housing Finance Board | John Waters, 202-408-2860 Website: www.fhfb.gov
Federal Election Commission | John O'Brien, 202-694-1215 Website: www.fec.gov
Federal Trade Commission | Elliott Davis, 202-326-2022 Website: www.ftc.gov
Federal Mediation and Conciliation Service | George Buckingham, 202-606-8100 Website: www.fmcs.gov
Federal Communications Commission (Office of Inspector General) | Charles Willoughby, 202-418-0472 Website: www.fcc.gov
Federal Housing Enterprise Oversight | Jill Weide, 202-414-3813 Website: www.ofheo.gov
Federal Emergency Management Agency | Margaret Chan, 202-646-2988 Website: www.fema.gov
Harry S. Truman Scholarship Foundation | Louis H. Blair, 202-395-4831 Website: www.truman.gov
Holocaust Museum | Jay Gaglione, 202-314-0336 Website: www.ushmm.org
Housing and Urban Development (Office of Inspector General) | Stanley McLeod, 202-708-3444, ext. 156 Website: www.hud.gov/oig/oigindex.html
Institute of Museum and Library Services | Linda Bell, 202-606-8637 Website: www.imls.gov
Inter-American Foundation | Carolyn Karr, 703-306-4350 Website: www.iaf.gov
International Trade Commission | Judith Gwynn, 202-205-2202 Website: www.usitc.gov
James Madison Memorial Fellowship Foundation | Steve Weiss, 202-653-6109 Website: www.jamesmadison.com
Kennedy Center | Jared Barlage, 202-416-8721 Website: www.kennedy-center.org
Merit Systems Protection Board | Douglas Wade, 202-653-6772 ext. 1118 Website: www.mspb.gov
National Gallery of Art | Bill Roache, 202-842-6329 Website: www.nga.gov
Office of Navaho and Hopi Indian Relocation | Michael J. McAlister, 520-779-2721 Website: www.whitehouse.gov/OMB/procurement
National Credit Union Administration | Michael McNeill, 703-518-6574 Website: www.ncua.gov
National Council on Disability | Ethel D. Briggs, 202-272-2004 Website: www.ncd.gov
National Archives and Records Administration (Office of Inspector General) | James Springs, 301-713-7300, ext. 224 Website: www.nara.gov
National Archives and Records Administration | Lori Lisowski, 301-713-7360, ext. 257 Website: www.nara.gov
National Endowment for the Humanities | Barry Maynes, 202-606-8233 Website: www.neh.gov
National Aeronautics and Space Administration | Timothy Sullivan, 202-358-2215 Website: www.HQ.NASA.gov/fair
National Transportation Safety Board | Pamela Pearson, 202-314-6231 Website: www.ntsb.gov
National Science Foundation | Gary Scavongelli, 703-292-8102 Website: www.nsf.gov
National Labor Relations Board | Harding Darden, 202-273-3970 Website: www.nlrb.gov
Nuclear Regulatory Commission (Office of Inspector General) | David Lee, 301-415-5930 Website: www.nrc.gov
Nuclear Regulatory Commission | Ronald Thompson, 301-415-6732 Website: www.nrc.gov
Nuclear Waste Technical Review Board | Dr. William Barnard, 703-235-4473 Website: www.nwtrb.gov
Occupational Safety and Health Review Commission | Ledia Bernal, 202-606-5390 Website: www.oshrc.gov
Office of Management and Budget | Trish Haney, 202-395-7250 Website: www.whitehouse.gov/OMB/procurement
Office of National Drug Control Policy | Tilman Dean, 202-395-6722 Website: www.whitehousedrugpolicy.org
Office of the Special Counsel | Jane McFarland, 202-653-9001 Website: www.osc.gov
Office of the US Trade Representative | John Hopkins, 202-395-5799 Website: www.ustr.gov
Peace Corps | Susan Hancks, 202-692-1612 Website: www.peacecorps.gov
Selective Service System | Calvin Montgomery, 703-605-4038 Website: www.sss.gov
Small Business Administration | Tom Dumaresq, 202-205-6630 Website: www.sba.gov
Small Business Administration (Office of Inspector General) | Bridget Bean, 202-205-6580 Website: www.sba.gov/ig
State | Robert McFadden, 202-647-7780 Website: www.state.gov/www/dept/fmp/related_sites
Transportation (Office of Inspector General) | Sam Davis, 202-366-1444 Website: www.oig.dot.gov
US Chemical Safety Board | Christopher Warner, 202-261-7624 Website: www.csb.gov
US Agency for International Development (Office of Inspector General) | Deborah Lewis, 202-712-0936 Website: www.usaid.gov/procurement_bus_opp
US Trade and Development Agency | Steven Berry, 703-875-5016 Website: www.tda.gov
Veterans Affairs | Curtis Marshall, 202-273-7522 Website: www.va.gov

[FR Doc. 01-23990 Filed 9-25-01; 8:45 am]

BILLING CODE 3110-01-P